DEPARTMENT OF TRANSPORTATION

Federal Railroad Administration

49 CFR Part 222

[Docket No. FRA-2007-27285, Notice No. 2]

RIN 2130-AB86

Use of Locomotive Horns at Highway-Rail Grade Crossings; Technical Amendments to Appendix D

AGENCY: Federal Railroad Administration (FRA), Department of Transportation (DOT).

ACTION: Direct final rule; confirmation of effective date.

SUMMARY: On August 9, 2007, FRA published a direct final rule in the Federal Register which made technical amendments to Appendix D of 49 CFR Part 222. As reflected in DOT Docket No. FRA-2007-27285, FRA did not receive any comments or requests for an oral hearing on the direct final rule. Therefore, FRA is issuing this document to confirm that the direct final rule took effect on October 9, 2007, the date specified in the rule.

DATES: The direct final rule published at 72 FR 44790, August 9, 2007, is confirmed effective October 9, 2007.

FOR FURTHER INFORMATION CONTACT: Ronald Ries, Office of Safety, Mail Stop 25, FRA, 1120 Vermont Avenue, NW., Washington, DC 20590 (telephone: (202) 493-6299); or Kathryn Shelton, Office of Chief Counsel, Mail Stop 10, FRA, 1120 Vermont Avenue, NW., Washington, DC 20590 (telephone: (202) 493-6038).

SUPPLEMENTARY INFORMATION: Pursuant to FRA's direct final rulemaking procedures set forth at 49 CFR 211.33, FRA is issuing this document to inform the public that it has not received any comments or requests for an oral hearing on the direct final rule that was published in the Federal Register on August 9, 2007 (72 FR 44790). The direct final rule made technical amendments to Appendix D of 49 CFR Part 222 to update information contained in the appendix and inform the public of the most recent value of the Nationwide Significant Risk Threshold. As no comments or requests for an oral hearing were received by FRA, this document informs the public that the effective date of the direct final rule remains as October 9, 2007, the date specified in the rule.

Privacy Act

Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://DocketsInfo.dot.gov.

Issued in Washington, DC, on October 15, 2007.
Grady C. Cothen, Jr.,
Deputy Associate Administrator for Safety Standards and Program Development.

[FR Doc. E7-20605 Filed 10-17-07; 8:45 am]

BILLING CODE 4910-06-P